DEPARTMENT OF HEALTH AND HUMAN SERVICES

Centers for Disease Control and Prevention

[60-Day-19-1104; Docket No. CDC-2018-0114]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Assessing the “Impact of Organizational and Personal Antecedents on Proactive Health/Safety Decision Making”. This study seeks to empirically understand the factors and conditions that contribute to mine workers' safe decisions (or lack thereof) while completing job tasks.

DATES: CDC must receive written comments on or before April 8, 2019.

ADDRESSES: You may submit comments, identified by Docket No. CDC-2018-0114 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Assessing the Impact of Organizational and Personal Antecedents on Proactive Health/Safety Decision Making (OMB Control Number 0920-1104, Expiration 2/28/2019) — Extension—National Institute for Occupational Safety and Health (NIOSH), Centers for Disease Control and Prevention (CDC).

Background and Brief Description

NIOSH, under Public Law 91-596, Sections 20 and 22 (Section 20-22, Occupational Safety and Health Act of 1977) has the responsibility to conduct research relating to innovative methods, techniques, and approaches dealing with occupational safety and health problems.

This research relates to the interplay of personal and organizational influences on risk-taking and proactive decision-making behaviors among mine workers. The antecedents, or characteristics, that impact these behaviors are not well understood in mining. Understanding the degree to which antecedents influence at-risk decisions can inform the focus of future health and safety management interventions.

NIOSH proposed a project that sought to empirically understand the following:

(1) What are the most influential organizational antecedent characteristics that support worker health and safety (H&S) performance behaviors in the mining industry?

(2) What are the most influential personal antecedent characteristics that support worker health and safety (H&S) performance behaviors in the mining industry?

To answer the above questions, NIOSH researchers developed a psychometrically supported survey. Researchers identified seven worker perception-based `organizational values' and four `personal characteristics' that are presumed to be important in fostering H&S proactive behaviors. Because these emergent, worker perception-based constructs have a theoretical and empirical history, psychometrically tested items exist for each of them.

Upon approval of the previous ICR, which expires on February 28, 2019, recruitment and data collection occurred from February 2016 to March 2018 with 2,683 mineworkers. The data was analyzed to answer the organizational/personal characteristics that have the biggest impact on proactive and compliant health and safety behaviors. Dominance and relative weights analysis were used as the data analysis method to statistically rank order the importance of predictors in numerous regression contexts. Safety proactivity and safety compliance served as the dependent variables in these regression analyses, with the organizational and personal characteristics as independent variables.

Findings are being used to improve the safety and health organizational values and focus of mine organizations, as executed through their health and safety management system for mitigating health and safety risks at their mine site. Specifically, if organizations were lacking in values that were of high importance among employees, site leadership now knows where to focus new, innovative methods, techniques, and approaches to dealing with their occupational safety and health problems.

Finally, the data is being directly compared to data from other mine organizations that administered the same standardized methods to provide broader context for areas in which the mining industry can focus more attention if trying to encourage safer work behavior. Therefore, the purpose was not to isolate negative actions among workers or mine management, rather the purpose was to determine what areas of a health and safety management system mines can focus their efforts to better support worker health and safety decision making.

Data collection took place with mine workers over the last three years with minimal recruitment. The respondents targeted for this study included any active mine worker at a mine site, both surface and underground. All participants were between the ages of 18 and 75 and currently employed. Upon consent from the mine, mine workers were asked to complete the organizational health and safety survey.

In the time that this project has been open, there has been extensive interest from companies. The demand is so great that companies would like to continue distributing the survey. Even if NIOSH does not use the data in their final data set to answer the research questions posed, this effort is building good faith with industry stakeholders and also allows an opportunity to collect data for other research projects. No recruitment is being done for this effort, only data is being collected as requested by mining companies who have presence across the world. Therefore, we would like to keep this data collection open for an additional one-year time period.

Participation will require no more than 20 minutes of workers' time during one visit to the mine. There is no cost to respondents other than their time. It is estimated, based on industry interest, that in this one year period no more than 1,200 mineworkers will opt to complete the survey and will be between the ages of 18 and 75.

Estimated Annualized Burden Hours
Type of respondents | Form name | Number of respondents | Number of responses per respondent | Average burden per response (in hours) | Total burden (in hours)
Mine Worker | Individual Miner Recruitment Script | 1200 | 1 | 5/60 | 100
Mine Worker | survey | 1200 | 1 | 15/60 | 300
Total |  |  |  |  | 400

Jeffrey M. Zirger,
Acting Lead, Information Collection Review Office, Office of Scientific Integrity, Office of Science, Centers for Disease Control and Prevention.

[FR Doc. 2019-01335 Filed 2-6-19; 8:45 am]

BILLING CODE 4163-18-P